DEPARTMENT OF LABOR

Employment and Training Administration

[TA-W-37,682]

Johnson Controls, Incorporated, Goshen, IN; Notice of Termination of Investigation

Pursuant to Section 221 of the Trade Act of 1974, an investigation was initiated on May 15, 2000, in response to a petition filed by a company official on behalf of workers at Johnson Controls, Incorporated, Goshen, Indiana.

The company official and union official submitting the petition have requested that the petition be withdrawn. Consequently, further investigation in this case would serve no purpose, and the investigation has been terminated.

Signed in Washington, DC, this 12th day of June, 2000.
Grant D. Beale,
Program Manager, Division of Trade Adjustment Assistance.

[FR Doc. 00-17319 Filed 7-7-00; 8:45 am]

BILLING CODE 4510-30-M